DEPARTMENT OF COMMERCE

National Oceanic and Atmospheric Administration

RIN 0648-XA508

Marine Mammals; File No. 14502

AGENCY: National Marine Fisheries Service (NMFS), National Oceanic and Atmospheric Administration (NOAA), Commerce.

ACTION: Notice; issuance of permit.

SUMMARY: Notice is hereby given that a permit has been issued to Russell Fielding, Louisiana State University, Room 227, Baton Rouge, Louisiana 70803 to import samples from Risso's (Grampus griseus), spinner (Stenella longirostris), and spotted (S. frontalis) dolphins and short-finned pilot whales (Globicephala macrorhynchus) for the purpose of scientific research.

ADDRESSES: The permit and related documents are available for review upon written request or by appointment in the following offices:

Permits, Conservation and Education Division, Office of Protected Resources, NMFS, 1315 East-West Highway, Room 13705, Silver Spring, MD 20910; phone (301)427-8401; fax (301)713-0376; and

Southeast Region, NMFS, 263 13th Avenue South, Saint Petersburg, Florida 33701; phone (727)824-5312; fax (727)824-5309.

FOR FURTHER INFORMATION CONTACT: Jennifer Skidmore or Kristy Beard, (301)427-8401.

SUPPLEMENTARY INFORMATION: On June 9, 2009, notice was published in the Federal Register (74 FR 27286) that a request for a permit to import specimens for scientific research had been submitted by the above-named applicant. The requested permit has been issued under the authority of the Marine Mammal Protection Act of 1972, as amended (16 U.S.C. 1361 et seq.) and the regulations governing the taking and importing of marine mammals (50 CFR part 216). Permit No. 14502 authorizes the importation of muscle, blubber, and teeth samples from Risso's, spinner, and spotted dolphins and short-finned pilot whales collected during the legal cetacean hunts of St. Vincent and the Grenadines. Samples from up to 100 individuals will be imported to the NOAA Center for Coastal Fisheries and Habitat Research in Beaufort, North Carolina, for contaminant analysis (specifically methyl-mercury). No animals will be taken to provide samples for this research and no marine mammals will be incidentally harassed. The permit is valid through June 17, 2012.

In compliance with the National Environmental Policy Act of 1969 (42 U.S.C. 4321 et seq.), a final determination has been made that the activity proposed is categorically excluded from the requirement to prepare an environmental assessment or environmental impact statement.

Dated: June 20, 2011.
P. Michael Payne,
Chief, Permits, Conservation and Education Division, Office of Protected Resources, National Marine Fisheries Service.

[FR Doc. 2011-15899 Filed 6-23-11; 8:45 am]

BILLING CODE 3510-22-P